DEPARTMENT OF ENERGY

Federal Energy Regulatory Commission

[Project No. 2210-194]

Appalachian Power Company; Notice of Application for Amendment of License and Soliciting Comments, Motions to Intervene, and Protests

June 1, 2010.

Take notice that the following hydroelectric application has been filed with the Commission and is available for public inspection:

a. Type of Application: Non-project use of project lands and waters.

b. Project Number: 2210-194.

c. Date Filed: May 6, 2010.

d. Applicant: Appalachian Power Company.

e. Name of Project: Smith Mountain Lake Hydroelectric Project.

f. Location: The project is located in Pittsylvania, Bedford, Franklin, and Roanoke Counties, Virginia. The proposed action would occur in Bedford County approximately 0.5 mile south of State Route 823.

g. Filed Pursuant to: Federal Power Act, 16 U.S.C. 791 (a) 825(r).

h. Applicant Contact: Ms. Elizabeth Parcell, Appalachian Power Company, 996 Old Franklin Turnpike, Rocky Mount, VA 24151, phone: (540) 489-2540.

i. FERC Contact: Any questions on this notice should be addressed to Christopher Yeakel at (202) 502-8132, or e-mail address: christopher.yeakel@ferc.gov.

j. Deadline for filing comments and or motions: July 1, 2010.

Comments, protests and interventions may be filed electronically via the Internet in lieu of paper. See, 18 CFR 385.2001(a)(1)(iii) and the instructions on the Commission's Web site at http://www.ferc.gov under the “e-Filing” link. The Commission strongly encourages electronic filings.

To paper-file, an original and eight copies should be mailed to: Secretary, Federal Energy Regulatory Commission, 888 First Street, NE., Washington, DC 20426. Please include the project number (P-2210-194) on any comments or motions filed.

The Commission's Rules of Practice and Procedure require all interveners filing documents with the Commission to serve a copy of that document on each person whose name appears on the official service list for the project. Further, if an intervener files comments or documents with the Commission relating to the merits of an issue that may affect the responsibilities of a particular resource agency, they must also serve a copy of the document on that resource agency. A copy of any motion to intervene must also be served upon each representative of the Applicant specified in the particular application.

k. Description of Request: The licensee proposes to permit Crystal Shores Yachting Community, LLC to reconstruct an existing 32-slip dock that was damaged during the winter. The replacement dock would be a covered fixed dock constructed of wood, arranged parallel to the shoreline, and would occupy the same footprint as the existing dock, 505.7 feet long and 48.4 feet wide. The dock would be attached to the shoreline via the existing bulkhead.

l. Locations of the Application: A copy of the application is available for inspection and reproduction at the Commission's Public Reference Room, located at 888 First Street, NE., Room 2A, Washington, DC 20426, or by calling (202) 502-8371. This filing may also be viewed on the Commission's Web site at http://www.ferc.gov using the “eLibrary” link. Enter the docket number (P-2210) excluding the last three digits in the docket number field to access the document. You may also register online at http://www.ferc.gov/docs-filing/esubscription.asp to be notified via e-mail of new filings and issuances related to this or other pending projects. For assistance, call 1-866-208-3376 or e-mail FERCOnlineSupport@ferc.gov, for TTY, call (202) 502-8659. A copy is also available for inspection and reproduction at the address in item (h) above.

m. Individuals desiring to be included on the Commission's mailing list should so indicate by writing to the Secretary of the Commission.

n. Comments, Protests, or Motions to Intervene—Anyone may submit comments, a protest, or a motion to intervene in accordance with the requirements of Rules of Practice and Procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “PROTEST”, OR “MOTION TO INTERVENE”, as applicable, and the Project Number of the particular application to which the filing refers.

p. Agency Comments—Federal, State, and local agencies are invited to file comments on the described application. A copy of the application may be obtained by agencies directly from the Applicant. If an agency does not file comments within the time specified for filing comments, it will be presumed to have no comments. One copy of an agency's comments must also be sent to the Applicant's representatives.

Kimberly D. Bose,
Secretary.

[FR Doc. 2010-13561 Filed 6-7-10; 8:45 am]

BILLING CODE 6717-01-P